NATIONAL SCIENCE FOUNDATION

Large Scale Networking (LSN)—Joint Engineering Team (JET)

AGENCY: The Networking and Information Technology Research and Development (NITRD) National Coordination Office (NCO), National Science Foundation.

ACTION: Notice of meetings.

SUMMARY: The JET, established in 1997, provides for information sharing among Federal agencies and non-Federal participants with interest in high performance research networking and networking to support science applications. The JET reports to the Large Scale Networking (LSN) Interagency Working Group (IWG).

DATES: The JET meetings are held on the third Tuesday of each month (February 2018-December 2018), noon-2:00 p.m. Eastern time, at the NITRD National Coordination Office, 490 L'Enfant Plaza SW, Suite 8001, Washington, DC 20024. Please note that public seating for these meetings is limited and is available on a first-come, first served basis. WebEx and/or Teleconference participation is available for each meeting. Please reference the JET website for updates. Further information about the NITRD may be found at: http://www.nitrd.gov/.

FOR FURTHER INFORMATION CONTACT: Ms. Joyce Lee at joyce.lee@nitrd.gov or (202) 459-9674.

SUPPLEMENTARY INFORMATION: Public Comments: The government seeks individual input; attendees/participants may provide individual advice only. Members of the public are welcome to submit their comments to jet-comments@nitrd.gov. Please note that under the provisions of the Federal Advisory Committee Act (FACA), all public comments and/or presentations will be treated as public documents and may be made available to the public via the JET website. The agendas, minutes, and other meeting materials and information also can be found on the JET website at: https://www.nitrd.gov/nitrdgroups/index.php?title=Joint_Engineering_Team_(JET).

Submitted by the National Science Foundation in support of the Networking and Information Technology Research and Development (NITRD) National Coordination Office (NCO) on January 30, 2018.

Suzanne H. Plimpton,
Reports Clearance Officer, National Science Foundation.

[FR Doc. 2018-02101 Filed 2-1-18; 8:45 am]

BILLING CODE 7555-01-P